NUCLEAR REGULATORY COMMISSION

Request To Amend a License To Import Radioactive Waste

Pursuant to 10 CFR 110.70(c) “Public notice of receipt of an application,” please take notice that the Nuclear Regulatory Commission (NRC) has received the following request to amend an import license. Copies of the request are available electronically through ADAMS and can be accessed through the Public Electronic Reading Room (PERR) link: http://www.nrc.gov/reading-rm.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

The information concerning this import license amendment application follows.

NRC Import License Amendment Application
Name of applicant, date of application, date received, application No., docket No. | Description of material: Material type | Description of material: Total volume and activity level | Description of material: End use | Description of material: Country of origin
Diversified Scientific Services, Inc. (DSSI/Perma-Fix) May 14, 2007, June 18, 2007, IW012/03 11005322 | Class A radioactive mixed waste consisting of solids, semi-solids, and liquids contaminated with various materials including tritium, C-14, mixed fission product radionuclides and other contaminants | Total Volume: 378,000 kg Total Activity Level: 7,500 curies | Volume Reduction. Amend to: (1) increase the total activity level to 7,500 curies; (2) extend the expiration date to March 31, 2010; and (3) change the licensee's point of contact | Canada.

Dated this 18th day of July 2007 at Rockville, Maryland.
For the Nuclear Regulatory Commission.
Stephen Dembek,
Acting Deputy Director, Office of International Programs.

[FR Doc. E7-14566 Filed 7-26-07; 8:45 am]

BILLING CODE 7590-01-P